DEPARTMENT OF HEALTH AND HUMAN SERVICES

National Institutes of Health

Center for Scientific Review; Amended Notice of Meeting

Notice is hereby given of a change in the meeting of the Center for Scientific Review Special Emphasis Panel, March 25, 2008, 9 a.m. to March 26, 2008, 5 p.m., National Institutes of Health, 6701 Rockledge Drive, Bethesda, MD, 20892 which was published in the Federal Register on February 27, 2008, 73 FR 10455-20456.

The meeting will be held March 31, 2008 to April 1, 2008. The meeting time and location remain the same. The meeting is closed to the public.

Dated: February 29, 2008.
Jennifer Spaeth,
Director, Office of Federal Advisory Committee Policy.

[FR Doc. E8-4402 Filed 3-7-08; 8:45 am]

BILLING CODE 4140-01-M